DEPARTMENT OF AGRICULTURE

Rural Business—Cooperative Service

Notice of a Public Meeting on Implementation of Title VI, Rural Development Authorities of the Food, Conservation, and Energy Act of 2008—Section 6022, Rural Microentrepreneur Assistance Program and Section 6023, Grants for Expansion of Employment Opportunities for Individuals With Disabilities in Rural Areas

AGENCY: Rural Business—Cooperative Service, USDA.

ACTION: Notice of public meeting.

SUMMARY: The Rural Business—Cooperative Service, an Agency in the Rural Development Mission Area of the United States Department of Agriculture, will hold a public meeting January 26, 2009, entitled “Rural Microentrepreneur Assistance Opportunities—Inviting comments with the Public on new authorities of the Consolidated Farm and Rural Development Act (Pub. L. 110-246) (“the Act”).” The purpose of this event is to gather public comments and suggestions on how to implement certain new authorities authorized under Title VI of the Act.

DATES: The meeting will be held on Monday, January 26, 2009. Registration will start at 12:30 p.m.; the program will begin at 1 p.m. and conclude by 4 p.m. Eastern Time.

ADDRESSES: The meeting will be held in the Whitten Building, Room 107-A, U.S. Department of Agriculture, 12th and Jefferson Drive SW., Washington, DC. Participants should enter the building through the main visitor's entrance on Jefferson Drive which is closest to the conference room. Valid photo identification is required for clearance by building security personnel.

FOR FURTHER INFORMATION CONTACT: Lori Washington, Loan Specialist, Business Programs, Specialty Lenders Division, USDA, Rural Development, Rural Business and Cooperative Service, Room 6866, South Agriculture Building, STOP 3225, 1400 Independence Avenue, SW., Washington, DC 20250-3225, Telephone: (202) 720-9815, E-mail: lori.washington@wdc.usda.gov.

SUPPLEMENTARY INFORMATION: Specifically, USDA has an interest in initiating a dialogue on the following sections of Title VI of the Act:

Section numbers below refer to sections of the Food, Conservation and Energy Act of 2008.

Section 6022, Rural Microentrepreneur Assistance Program—Provides rural microentrepreneurs with the skills necessary to establish new rural microenterprises, training, and to provide continuing technical and financial assistance related to the successful operation of rural microenterprises. Loans and grants will be made to eligible and qualified Microenterprise Development Organizations for the purposes of (1) providing microloans to rural microentrepreneurs, and (2) providing training and technical assistance to microentrepreneurs and/or potential microentrepreneurs to establish new, or sustain existing microbusinesses in rural areas. The Act provides mandatory funding in the amount of $4 million in fiscal years (FYs) 2009 thru 2011, $3 million in fiscal year 2012 and the authorization for funding in the amount of $40 million in FYs 2009 thru 2012 for direct loan and grant assistance to rural microenterprises.

Section 6023, Grants for Expansion of Employment Opportunities for Individuals with Disabilities in Rural Areas—While funding has yet to be made available for this section, USDA seeks comments in anticipation of program implementation. This program is expected to provide for grants to nonprofit organizations to expand and enhance employment opportunities for individuals with disabilities in rural areas. Eligible organizations will include nonprofit organizations that have:

(1) A significant focus on serving the needs of individuals with disabilities;

(2) Demonstrated knowledge and expertise in employment of people with disabilities and advising private entities regarding accessibility issues;

(3) Expertise in removing employment barriers including access to transportation, assistive technology, and other such accommodations; and

(4) Existing relationships with national organizations focused primarily on the needs of rural areas.

Grants under this program will be used to expand or enhance employment opportunities for individuals with disabilities in rural areas via the development of national technical assistance and education resources to assist rural small businesses in the recruitment, hiring, accommodation, and employment of individuals with disabilities. Grants will also be used to expand or enhance self employment and entrepreneurship opportunities for individuals with disabilities in rural areas.

Instructions for Participation

Although registration is encouraged, walk-ins will be accommodated to the extent that space permits. Registered participants will be given priority for making presentations prior to walk-ins. Anyone interested in the Act programs that support assistance to rural microenterprises or assistance with the expansion of employment for persons with disabilities in rural areas is encouraged to attend the public meeting. Presentations will be limited to no more than 10 minutes in duration. To register and request time for an oral statement, contact Lori Washington, Business Programs, Specialty Lenders Division, USDA, Rural Development, Business and Cooperative Programs, Room 6866 South Agriculture Building, STOP 3225, 1400 Independence Avenue, SW., Washington, D.C. 20250-3201; Telephone: 202-720-9815, E-mail: lori.washington@wdc.usda.gov. Comments by e-mail should be in an ASCII file. Written comments should clearly identify which of the above-referenced sections the comments are addressing. Anyone may attend without pre-registering.

Anyone intending in making an electronic presentation must provide such presentation via e-mail to Lori Washington no later than Friday, January 16th and bring a copy of the presentation with them on a portable electronic media to the meeting. You will be notified if USDA does not have the equipment available to permit you to make the presentation. Due to technical problems that can arise, you are advised to have a backup plan for making the presentation.

Depending on the level of interest expressed by the registered participants, certain blocks of time will be allotted for oral presentations by referenced sections mentioned in this notice.

In addition, the Department will allow written comments to be provided on the referenced Sections of Title VI of the Act up to 15 days following the date of the public meeting. These written comments should be submitted to Lori Washington, Room 6866 South Agriculture Building, STOP 3225, 1400 Independence Avenue, SW., Washington, DC 20250-3225.

Copies of the presentations and any additional written comments that are received within the 15 days following the public meeting will be available for review at http://www.usda.gov/wps/portal/!ut/p/_s.7_0_A/7_0_2KD?navid=FARMBILL2008.

Participants who require a sign language interpreter or other special accommodations should contact Lori Washington as directed above.

The oral and written information obtained from interested parties will be considered in implementing provisions of Sections 6022 and 6023. In order to assure that the Act is implemented to meet constituent needs, USDA, Rural Development is sponsoring a listening forum and soliciting written comments to encourage public input and comments and in making recommendations on program implementation. All comments are welcome, and no attempt will be made to establish a consensus.

Non-Discrimination Statement

“The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs). Persons with disabilities who require alternative means for communication of program information (Braille, large print, audiotape, etc.) should contact USDA's TARGET Center at (202) 720-2600 (voice and TDD). To file a complaint of discrimination, write to USDA, Director, Office of Adjudication and Compliance, 1400 Independence Avenue, SW., Washington, DC 20250-9410, or call (800) 795-3272 (voice), or (202) 720-6382 (TDD). USDA is an equal opportunity provider, employer, and lender.”

Dated: January 9, 2009.
Ben Anderson,
Administrator, Rural Business—Cooperative Service.

[FR Doc. E9-1014 Filed 1-16-09; 8:45 am]

BILLING CODE 3410-XY-P